DEPARTMENT OF ENERGY

Federal Energy Regulatory Commission

[Project No. 10482-107]

AER NY-Gen, LLC; Eagle Creek Hydro Power, LLC, Eagle Creek Water Resources, LLC, Eagle Creek Land Resources, LLC; Notice of Application for Transfer of License, and Soliciting Comments and Motions To Intervene

On February 24, 2012, AER NY-Gen, LLC (transferor), Eagle Creek Hydro Power, LLC, Eagle Creek Water Resources, LLC, and Eagle Creek Land Resources, LLC (transferees) filed an application for the transfer of license for the Swinging Bridge Hydroelectric Project No. 10482, located on the Mongaup River in Sullivan County, New York.

Applicants seek Commission approval to transfer the license for the Swinging Bridge Hydroelectric Project from the transferor to the transferees.

Applicants' Contact: Transferor: Mr. Joseph Klimaszewski, AER NY-Gen, LLC, P.O. Box 876, East Aurora, NY 14052, (716) 805-1469. Transferees: Mr. Bernard H. Cherry, Eagle Creek Hydro Power, LLC, Eagle Creek Water Resources, LLC, and Eagle Creek Land Resources, LLC, 65 Madison Avenue, Morristown, NJ 07960, (973) 998-8400.

FERC Contact: Patricia W. Gillis (202) 502-8735, patricia.gillis@ferc.gov.

Deadline for filing comments and motions to intervene: 15 days from the issuance date of this notice. Comments and motions to intervene may be filed electronically via the Internet. See 18 CFR 385.2001(a)(1) and the instructions on the Commission's Web site under http://www.ferc.gov/docs-filing/efiling.asp. Commenters can submit brief comments up to 6,000 characters, without prior registration, using the eComment system at http://www.ferc.gov/docs-filing/ecomment.asp. You must include your name and contact information at the end of your comments. If unable to be filed electronically, documents may be paper-filed. To paper-file, an original plus seven copies should be mailed to: Kimberly D. Bose, Secretary, Federal Energy Regulatory Commission, 888 First Street NE., Washington, DC 20426. More information about this project can be viewed or printed on the eLibrary link of Commission's Web site at http://www.ferc.gov/docs-filing/elibrary.asp. Enter the docket number (P-10482) in the docket number field to access the document. For assistance, call toll-free 1-866-208-3372.

Dated: February 29, 2012.
Kimberly D. Bose,
Secretary.

[FR Doc. 2012-5468 Filed 3-6-12; 8:45 am]

BILLING CODE 6717-01-P